DEPARTMENT OF COMMERCE

National Oceanic and Atmospheric Administration

Agency Information Collection Activities; Submission to the Office of Management and Budget (OMB) for Review and Approval; Comment Request; Individual Fishing Quotas for Pacific Halibut and Sablefish in the Alaska Fisheries

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 13, 2021 (86 FR 2644), during a 60-day comment period. This notice allows for an additional 30 days for public comments.

Agency: National Oceanic and Atmospheric Administration (NOAA), Commerce.

Title: Individual Fishing Quotas for Pacific Halibut and Sablefish in the Alaska Fisheries.

OMB Control Number: 0648-0272.

Form Number(s): None.

Type of Request: Regular submission (extension and revision of a currently approved information collection).

Number of Respondents: 3,441.

Average Hours per Response: Application for IFQ/CDQ Hired Master Permit, 1 hour; Application for IFQ/CDQ Registered Buyer Permit, 30 minutes; Application for Replacement of Certificates or Permits, 30 minutes; Application for Eligibility to Receive QS/IFQ by Transfer, 2 hours; QS Holder: Identification of Ownership Interest, 2 hours; Application for Transfer of QS, 2 hours; Application for Transfer of QS/IFQ by Self Sweep Up, 2 hours; Application for Medical Transfer of IFQ, 1.5 hours; Application for Temporary Transfer of Halibut/Sablefish IFQ, 2 hours; (emergency) Application for Temporary Transfer of Halibut/Sablefish IFQ, 2 hours; Annual Report for CDQ IFQ Transfers, 40 hours; QS/IFQ Beneficiary Designation Form, 30 minutes; Appeals, 4 hours; IFQ Administrative Waiver, 6 minutes; Prior Notice of Landing, 15 minutes; IFQ Departure Report, 15 minutes; Transshipment Authorization, 12 minutes; Dockside sales, 6 minutes; Application for a Non-profit Corporation to be Designated as a Recreational Quota Entity, 200 hours; Application for Transfer of Quota Share To or From a Recreational Quota Entity, 2 hours; Recreational Quota Entity Annual Report, 40 hours.

Total Annual Burden Hours: 11,236 hours.

Needs and Uses: The National Marine Fisheries Service (NMFS), Alaska Regional Office, is requesting renewal and revision of this currently approved information collection that contains requirements for the Pacific Halibut and Sablefish Individual Fishing Quota Program (IFQ Program).

The International Pacific Halibut Commission (IPHC) and NMFS Alaska Region manage fishing for Pacific halibut (Hippoglossus stenolepis) through regulations established under the authority of the Northern Pacific Halibut Act of 1982, 16 U.S.C. 773c (Halibut Act). The IPHC promulgates regulations governing the halibut fishery under the Convention between the United States Halibut Fishery of the Northern Pacific Ocean and Bering Sea (Convention). Regulations pursuant to the Convention are set forth at 50 CFR 300 subpart E.

The North Pacific Fishery Management Council, under the authority of the Halibut Act (with respect to Pacific halibut) and the Magnuson-Stevens Fishery Conservation and Management Act (16 U.S.C. 1801 et seq.; Magnuson-Stevens Act) (with respect to sablefish), manages the IFQ Program. NMFS Alaska Region administers the IFQ Program. Regulations implementing the IFQ Program are set forth at 50 CFR part 679.

The IFQ Program provides a limited access system for Pacific halibut in Convention waters in and off Alaska and sablefish fisheries in waters of the Exclusive Economic Zone off Alaska. The IFQ Program provides coastal Alaska communities a source of revenue, while maintaining the social and economic character of the fixed-gear sablefish and halibut fisheries. The IFQ Program provides economic stability for these fisheries while reducing many of the conservation and management problems commonly associated with open-access fisheries. The IFQ Program includes several provisions, such as ownership caps and vessel use caps that protect small producers, part-time participants, and entry-level participants that otherwise could be adversely affected by excessive consolidation.

Participation in the IFQ Program is limited to persons that hold quota share (QS), although there are several very limited provisions for “leasing” of annual IFQ. QS is a transferable permit that was initially issued to persons who owned or leased vessels that made legal commercial fixed-gear landings of Pacific halibut or sablefish in the waters off Alaska from 1988 through 1990. Currently, QS may only be obtained through transfer.

Annually, NMFS issues eligible QS holders an IFQ fishing permit that authorizes participation in the IFQ fisheries. Those to whom IFQ permits are issued may harvest their annual allocation at any time during the eight plus-month IFQ halibut and sablefish seasons.

More information on the IFQ Program is provided on the NMFS Alaska Region website at https://www.fisheries.noaa.gov/alaska/sustainable-fisheries/pacific-halibut-and-sablefish-individual-fishing-quota-ifq-program.

Some of the collection instruments in this information collection are used by participants in the Western Alaska Community Development Quota (CDQ) Program. The purpose of the CDQ Program is to provide eligible western Alaska villages with the opportunity to participate and invest in fisheries in the Bering Sea and Aleutian Islands Management Area (BSAI); to support economic development in western Alaska; to alleviate poverty and provide economic and social benefits for residents of western Alaska; and to achieve sustainable and diversified local economies in western Alaska. In fitting with these goals, NMFS allocates a portion of the annual catch limits for a variety of commercially valuable marine species in the BSAI to the CDQ Program. Pacific halibut is one of these species. More information on the CDQ Program is provided on the NMFS Alaska Region website at https://www.fisheries.noaa.gov/alaska/sustainable-fisheries/community-development-quota-cdq-program. Information collection requirements for the CDQ Program are approved under OMB Control Number 0648-0269.

This information collection is required to manage commercial halibut and sablefish fishing under the Magnuson-Stevens Act, the Halibut Act, and under 50 CFR parts 300 and 679.

This information collection contains the forms used by participants in the IFQ Program to apply for, renew, or replace permits; transfer or lease IFQ and QS; determine compliance with IFQ program requirements; and designate a beneficiary for a QS holder. Two of the permit applications are also used by participants in the CDQ Program. This information collection also contains annual reports and other collections submitted by telephone or other methods and that do not have forms.

The type of information collected includes information on the applicants, transferors, transferees, permits, IFQ or QS types and owners, beneficiaries, vessels, business operations, medical declarations, landings, gear types, products, and harvests and harvest areas.

This information is used to identify and authorize participants in the halibut and sablefish fisheries, to track and transfer quota share, to limit transfers to authorized participants, and to monitor quota share balances and harvest in these fisheries.

Several revisions are made to this collection. The emergency version of the Application for Temporary Transfer of Halibut/Sablefish Individual Fishing Quota (IFQ), which was approved under an emergency approval (OMB Control No. 0648-0795), is added for use during emergency situations. Two forms are revised to remove information that is not needed. The Application for Transfer of QS/IFQ by Self Sweep-up is revised to remove the notary certification, and the Application for Eligibility to Receive QS/IFQ is revised to no longer collect social security numbers. The Application for Eligibility to Receive QS/IFQ and Application for Transfer of QS are revised to collect the NMFS ID number to improved identification.

Affected Public: Individuals or households; Business or other for-profit organizations; Not-for-profit institutions.

Frequency: On occasion; Annually.

Respondent's Obligation: Voluntary; Required to Obtain or Retain Benefits; Mandatory.

Legal Authority: Magnuson-Stevens Fishery Conservation and Management Act, 16 U.S.C. 1801 et seq.; Northern Pacific Halibut Act of 1982, 16 U.S.C. 773c.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0272.

Sheleen Dumas,
Department PRA Clearance Officer, Office of the Chief Information Officer, Commerce Department.

[FR Doc. 2021-11311 Filed 5-27-21; 8:45 am]

BILLING CODE 3510-22-P